DEPARTMENT OF COMMERCE

National Oceanic and Atmospheric Administration

RIN 0648-XF175

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council will hold a Post Council Meeting Briefing for the public via webinar.

DATES: The meeting will convene on Wednesday, February 8, 2017; starting at 6 p.m. EDT and ending no later than 9 p.m. EDT.

ADDRESSES: The meeting will take place via webinar at: https://attendee.gotowebinar.com/register/6877778762909006595.

Council address: Gulf of Mexico Fishery Management Council, 2203 N. Lois Avenue, Suite 1100, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION:

Agenda

1. Welcome and Introductions

2. Review of Council actions taken during the January, 2017 Council Meeting

3. Questions and Answers

4. Adjourn

You may register for the Post October Council Meeting Briefing Webinar at: https://attendee.gotowebinar.com/register/6877778762909006595.

After registering, you will receive a confirmation email containing information about joining the webinar.

Dated: January 17, 2017.
Tracey L. Thompson,
Acting Deputy Director, Office of Sustainable Fisheries, National Marine Fisheries Service.

[FR Doc. 2017-01447 Filed 1-23-17; 8:45 am]

BILLING CODE 3510-22-P